NATIONAL SCIENCE FOUNDATION

Sunshine Act Meetings; National Science Board

The National Science Board, pursuant to NSF regulations (45 CFR Part 614), the National Science Foundation Act, as amended (42 U.S.C. 1862n-5), and the Government in the Sunshine Act (5 U.S.C. 552b), hereby gives notice of a CHANGE in the scheduling of a meeting for the transaction of National Science Board business, as noted below. The original notice was published in the Federal Register on May 1, 2014 (79 FR 24757-58).

Original Agenda

CSB Subcommittee on Facilities (SCF)

Open Session: 1:00 p.m.

• Chairman's remarks and approval of the open February 2014 meeting minutes, and January 16 and February 6 teleconference meeting minutes

• Discussion of Proposed FY 2013 APR recommendations

• Discussion of Facility Plan draft templates

• FY 2014 APR of Facilities

Closed Session: 1:40 p.m.

• Discussion of Regional Class Research Vessels

Changed Agenda

Open Session: 1:00 p.m.

• Chairman's remarks and approval of the open February 2014 meeting minutes, and January 16 and February 6 teleconference meeting minutes

• Discussion of Proposed FY 2013 APR recommendations

• FY 2014 APR of Facilities

Closed Session: 1:40 p.m.

• Discussion of Regional Class Research Vessels

• Discussion of Facility Plan draft templates

PLACE: These meetings will be held at the National Science Foundation, 4201Wilson Blvd., Rooms 1235, Arlington, VA 22230. All visitors must contact the Board Office (call 703-292-7000 or send an email message to nationalsciencebrd@nsf.gov) at least 24 hours prior to the meeting and provide name and organizational affiliation. Visitors must report to the NSF visitor desk located in the lobby at the 9th and N. Stuart Streets entrance to receive a visitor's badge.

UPDATES: Please refer to the National Science Board Web site for additional information. Meeting information and schedule updates (time, place, subject matter or status of meeting) may be found at http://www.nsf.gov/nsb/notices/.

AGENCY CONTACT:Jennie L. Moehlmann, jmoehlma@nsf.gov, (703) 292-7000.

PUBLIC AFFAIRS CONTACT: Nadine Lymn, nlymn@nsf.gov, (703) 292-2490.

Ann Bushmiller,
Senior Counsel to the National Science Board.

[FR Doc. 2014-10529 Filed 5-5-14; 11:15 am]

BILLING CODE 7555-01-P